DEPARTMENT OF TRANSPORTATION

Federal Aviation Administration

Public Notice for Waiver of Aeronautical Land-Use Assurance; Detroit Metropolitan Wayne County Airport, Detroit, MI

AGENCY: Federal Aviation Administration, DOT.

ACTION: Notice of intent of waiver with respect to land.

SUMMARY: The Federal Aviation Administration (FAA) is considering a proposal to change a portion of the Detroit Metropolitan Wayne County Airport (DTW) from aeronautical use to non-aeuronautical use and to authorize the sale of the airport property .The proposal consists of a land exchange between the Wayne County Airport Authority (WCAA) and the City of Romulus (City) for the Romulus Department of Public Works (DPW) property.

The Runway 4L/22R construction project at DTW necessitated the WCAA acquire the City DPW site on Goddard Road (Parcel 65). A Memorandum of Understanding between the WCAA and the City provided that the WCAA construct a replacement DPW facility on surplus airport property West of relocated Wayne Road and then exchange this property (portions of seven parcels) for the former City DPW site. The new DPW facility has been constructed and the WCAA/City desire to complete the property exchange.

The WCAA has requested from FAA a “Release from Federal agreement obligated land covenants” to complete the land exchange. The property proposed for release was acquired by the WCAA under FAA Project Numbers: 3-26-0026-1991, 3-26-0026-2292, 3-26-0026-3695, 3-26-0026-4197, and 3-26-0026-4398.

There are no impacts to the airport by allowing the WCAA to exchange property with the City. Approval does not constitute a commitment by the FAA to financially assist in the disposal of the airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before September 20, 2006.

FOR FURTHER INFORMATION CONTACT: Mr. David J. Welhouse, Project Manager, Detroit Airports District Office, 11677 South Wayne Road, Suite 107, Romulus, Michigan 48174. Telephone Number (734) 229-2952/FAX Number (734) 229-2950. Documents reflecting this FAA action may be reviewed at this same location or at Detroit Metropolitan Wayne County Airport, Detroit, Michigan.

SUPPLEMENTARY INFORMATION: Following is a legal description of the property to be exchanged with the City of Romulus for the new DPW facility located in Romulus, Wayne County, Michigan, and described as follows:

Description of That Portion of Parcel 30 Being Released

Part of the Southeast ¼ of Section 20, T. 3 S., R. 9 E., City of Romulus, Wayne County, Michigan and being more particularly described as follows: Commencing at the Southeast corner of Section 20, T. 3 S., R. 9 E., and running thence North 88 degrees 14 minutes 27 seconds West, along the South line of said Section 20, a distance of 174.09 feet to a point; thence North 01 degree 19 minutes 36 seconds East, a distance of 57.34 feet to the point of beginning of the parcel of land herein being described; proceeding thence from said point of beginning North 01 degree 19 minutes 36 seconds East, a distance of 1243.26 feet to a point; thence South 89 degrees 51 minutes 47 seconds East a distance of 174.12 feet to a point on the East line of said Section 20; thence South 01 degree 19 minutes 36 seconds West, along the East line of said Section 20, a distance of 936.44 feet to a point on the Westerly Right-Of-Way Line for said relocated Vining Road; thence South 30 degrees 29 minutes 17 seconds West, along said right of way line, a distance of 355.48 feet to a point; thence North 89 degrees 06 minutes 59 seconds West a distance of 0.87 feet to the point of beginning. Containing 4.359 acres, more or less, of land in area.

Description of That Portion of Parcel 33 Being Released

Part of the Southwest ¼ of Section 21, T. 3 S., R. 9 E., City of Romulus, Wayne County, Michigan and being more particularly described as follows: Commencing at the Southwest corner of Section 21, T. 3 S., R. 9 E., and running thence North 01 degree 19 minutes 36 seconds East, along the West line of said Section 21, a distance of 369.09 feet to a point on the Westerly Right-Of-Way line relocated Vining Road (120 feet wide), said point being the point of beginning of the parcel of land herein being described; proceeding thence from said point of beginning North 01 degree 19 minutes 36 seconds East, along the West line of said Section 21, a distance of 107.94 feet to a point; thence South 88 degrees 18 minutes 51 seconds East a distance of 60.02 feet to a point on the Westerly Right-Of-Way Line for said relocated Vining Road; thence South 30 degrees 29 minutes 17 seconds West, along said right of way line, a distance of 123.17 feet to the point of beginning. Containing 0.074 acre, more or less, of land in area.

Description of That Portion of Parcel 36 Being Released

Part of the Southwest ¼ of Section 21, T. 3 S., R. 9 E., City of Romulus, Wayne County, Michigan and being more particularly described as follows: Commencing at the Southwest corner of Section 21, T. 3 S., R. 9 E., and running thence North 01 degree 19 minutes 36 seconds East, along the West line of said Section 21, a distance of 477.03 feet to the point of beginning of the parcel of land herein being described; proceeding thence from said point of beginning North 01 degree 19 minutes 36 seconds East, along the West line of said Section 21, a distance of 321.18 feet to a point; thence South 88 degrees 18 minutes 51 seconds East a distance of 238.61 feet to a point on the Westerly Right-Of-Way Line for relocated Vining Road (120 feet wide); thence South 30 degrees 29 minutes 17 seconds West, along said right of way line, a distance of 366.51 feet to a point; thence North 88 degrees 18 minutes 51 seconds West a distance of 60.02 feet tot he point of beginning. Containing 1.101 acres, more or less, of land in area.

Description of That Portion of Parcel 37 Being Released

Part of the Southwest ¼ of Section 21, T. 3 S., R. 9 E., City of Romulus, Wayne County, Michigan and being more particularly described as follows: Commencing at the Southwest corner of Section 21, T. 3 S., R. 9 E., and running thence North 01 degree 19 minutes 36 seconds East, along the West line of said Section 21, a distance of 798.21 feet to the point of beginning of the parcel of land herein being described; proceeding thence from said point of beginning North 01 degree 19 minutes 36 seconds East, along the West line of said Section 21, a distance of 160.59 feet to a point; thence South 88 degrees 18 minutes 51 seconds East a distance of 327.91 feet to a point on the Westerly Right-Of-Way Line for relocated Vining Road (120 feet wide); thence South 30 degrees 29 minutes 17 seconds West, along said right of way line, a distance of 183.26 feet to a point; thence North 88 degrees 18 minutes 51 seconds West a distance of 238.61 feet to the point of beginning. Containing 1.044 acres, more or less, of land in area.

Description of That Portion of Parcel 38 Being Released

Part of the Southwest ¼ of Section 21, T. 3 S., R. 9 E., City of Romulus, Wayne County, Michigan and being more particularly described as follows: Commencing at the Southwest corner of Section 21, T. 3 S., R. 9 E., and running thence North 01 degree 19 minutes 36 seconds East, along the West line of said Section 21, a distance of 958.80 feet to the point of beginning of the parcel of land herein being described; proceeding thence from said point of beginning North 01 degrees 19 minutes 36 seconds East, along the West line of said Section 21, a distance of 160.59 feet to a point; thence South 88 degrees 18 minutes 51 seconds East a distance of 417.21 feet to a point on the Westerly Right-Of-Way Line for relocated Vining Road (120 feet wide); thence South 30 degrees 29 minutes 17 seconds West, along said right of way line a distance of 183.26 feet to a point; thence North 88 degrees 18 minutes 51 seconds West a distance of 327.91 feet to the point of beginning. Containing 5.105 acres, more or less, of land in area.

Description of That Portion of Parcel 40 Being Released

Part of the Southwest ¼ of Section 21, T. 3 S., R. 9 E., City of Romulus, Wayne County, Michigan and being more particularly described as follows: Commencing at the Southwest corner of Section 21, T. 3 S., R. 9 E., and running thence North 01 degree 19 minutes 36 seconds East, along the West line of said Section 21, a distance of 1119.39 feet to the point of beginning of the parcel of land herein being described; thence North 01 degree 19 minutes 36 seconds East, along the West line of said Section 21, a distance of 532.88 feet to a point; thence South 89 degrees 12 minutes 20 seconds East a distance of 707.05 feet to a point; thence South 00 degrees 12 minutes 13 seconds East a distance of 21.65 feet to a point on the Westerly Right-Of-Way Line for relocated Vining Road (120 feet wide); thence South 30 degrees 29 minutes 17 seconds West, along said right of way line, a distance of 595.97 feet to a point; thence North 88 degrees 18 minutes 51 seconds West a distance of 417.21 feet to the point of beginning. Containing 7.005 acres, more or less, of land in area.

Issued in Romulus, Michigan, on July 28, 2006.
Irene R. Porter,
Manager, Detroit Airports District Office, FAA, Great Lakes Region.

[FR Doc. 06-7061 Filed 8-18-06; 8:45 am]

BILLING CODE 4910-13-M